DEPARTMENT OF ENERGY

Federal Energy Regulatory Commission

[Docket No. IC26-10-000]

Commission Information Collection Activities (FERC-547, FERC-550, FERC-914); Consolidated Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comments on the extension, with no change, of the following currently approved information collections: FERC-547 (Gas Pipeline Rates: Refund Report Requirements), FERC-550 (Oil Pipeline Rates—Tariff Filings and Depreciation Studies), and FERC-914 (Cogeneration and Small Power Production—Tariff Filings).

DATES: Comments on the collections of information are due March 27, 2026.

ADDRESSES: Please submit comments via email to DataClearance@FERC.gov. You must specify the Docket No. (IC26-10-000) and the FERC Information Collection number (FERC-547, FERC-550, FERC-914) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams may be reached by email at DataClearance@FERC.gov, or by telephone at (202)502-6468.

SUPPLEMENTARY INFORMATION:

Title: FERC-547 (Gas Pipeline Rates: Refund Report Requirements); FERC-550 (Oil Pipeline Rates—Tariff Filings and Depreciation Studies); and FERC-914 (Cogeneration and Small Power Production—Tariff Filings).

OMB Control Numbers: 1902-0084, 1902-0089, 1902-0231.

Type of Request: Three-year extension of the FERC-547, FERC-550, and FERC-914 information collection requirements with no changes to the current reporting requirements.

Abstract:

FERC 547: Gas Pipeline Rates: Refund Report Requirements

The Commission uses FERC-547 (Gas Pipeline Rates: Refund Report Requirements) to implement the statutory refund provisions governed by Sections 4, and 16 of the Natural Gas Act (NGA).¹ Section 4 authorizes the Commission to order a refund (with interest) for any portion of a natural gas company's increased rate or charge found to be unjust or unreasonable. Refunds may also be instituted by a natural gas company as a stipulation to a Commission-approved settlement agreement or a provision under the company's tariff. Section 16 of the NGA authorizes the Commission to prescribe rules and regulations necessary to administer its refund mandates. The Commission's refund reporting requirements are located in 18 CFR 154.501 (Refund Obligations) and 18 CFR 154.502 (Reports).

¹ 15 U.S.C. 717-717w.

The Commission uses the data collected in FERC-547 to monitor refunds owed by natural gas companies to ensure that the flow-through of refunds owed by these companies are made as expeditiously as possible and to assure that refunds are made in compliance with the Commission's regulations.

FERC 550: Oil Pipeline Rates—Tariff Filings and Depreciation Studies

The FERC-550 550 (Oil Pipeline Rates—Tariff Filings and Depreciation Studies) is required to assist the Commission in implementing the duties and powers that were vested on October 1, 1977, in the Interstate Commerce Commission pursuant to 49 U.S.C. 60502. The Commission's regulatory jurisdiction over oil pipelines includes:

• Regulation of rates and practices of oil pipeline companies engaged in interstate transportation;

• Establishment of equal service conditions to provide shippers with equal access to pipeline transportation; and

• Establishment of reasonable rates for transporting petroleum and petroleum products by pipeline.

Oil Pipeline Tariffs and Rates

The FERC-550 data collection provides the Commission with the information it needs to analyze proposed tariffs, rates, fares, and charges of oil pipelines and other carriers in connection with the transportation of crude oil and petroleum products. Specifically, these filings typically include indexing, market-based rates, or initial rate filings. The Commission uses this information to determine whether the proposed tariffs and rates are just and reasonable.²

² 18 CFR parts 341 through 348 (2025).

The Commission's regulations at 18 CFR parts 341 through 348 provide that letters of transmittal must describe the filings and explain any changes to the carrier's rates, rules, terms or conditions of service; state if a waiver is being requested, and specify the statute, section, regulation, policy, or order requested to be waived; and identify the tariffs supplemental numbers, or tariff sections and the proposed effective date of the tariff publication. The letter of transmittal must certify that the filing has been sent to each subscriber of the tariff publication. A carrier may file to amend or modify a tariff contained in a tariff filing at any time during the pendency of the filing. Carriers must cancel tariffs when the service or transportation movement is terminated. If the service in connection with the tariff is no longer in interstate commerce, the tariff publication must state so. Whenever the tariff of a carrier on file with the Commission is to be adopted by another carrier as a result of an acquisition, merger, or name change, the succeeding company must file with the Commission, and post within 30 days after such succession, the tariff, or portion thereof, that has been adopted in the electronic format required by 18 CFR 341.1 bearing the name of the successor company.

Oil Pipeline Depreciation Studies

The FERC-550 data collection also collects information necessary to inform the Commission about oil pipeline depreciation. Specifically, The Commission's regulation at 18 CFR 347.1 provides that oil pipelines must file material to support requests for newly established or changed property account depreciation studies. It requires an applicant to file electronically, and the transmittal letter must give a general description of the change in depreciation rates, certify that the transmittal also has been sent to each shipper and to each subscriber, and state if there are no subscribers. The proposed depreciation rates being established must be used until they are either accepted or modified by the Commission. Rates in effect at the time of the proposed revision must continue to be used until the proposed revised rates are approved or modified by the Commission. The oil pipeline must provide information in sufficient detail to fully explain and justify the proposed rates. Modifications, additions, and deletions to data elements should be made to reflect the individual circumstances of the carrier's properties and operations.

FERC 914: Cogeneration and Small Power Production—Tariff Filings

The Commission uses the information collected by the FERC-914 to determine if a small power production or cogeneration facility is exempt for rate regulation under 18 CFR 292.

Section 205(c) of the Federal Power Act (FPA) and 18 CFR 292 require that every public utility have all its jurisdictional rates and tariffs on file with the Commission and make them available for public inspection, within such time and in such form as the Commission designates. Section 205(d) of the FPA requires that every public utility must provide notice to the Commission and the public of any changes to its jurisdictional rates and tariffs, file such changes with the Commission, and make them available for public inspection as directed by the Commission. In addition, FPA section 206 requires the Commission, upon complaint or its own motion, to modify existing rates or services that are found to be unjust, unreasonable, unduly discriminatory, or preferential. FPA section 207 requires the Commission upon complaint by a state commission and a finding of insufficient interstate service, to order the rendering of adequate interstate service by public utilities, the rates for which would be filed in accordance with FPA sections 205 and 206.

In Order Nos. 671 and 671-A,³ the Commission revised its regulations that govern qualifying small power production and cogeneration facilities. The Commission eliminated certain exemptions from rate regulation that were previously available to qualifying facilities. New qualifying facilities may need to make tariff filings if they do not meet the exemption requirements.

³ Revised Regulations Governing Small Power Production and Cogeneration Facilities, Order No. 671, 71 FR 7852 (2/15/2006), FERC Stats. & Regs. ¶ 31,203 (2006); and Revised Regulations Governing Small Power Production and Cogeneration Facilities, Order 671-A, 71 FR 30585 (5/30/2006).

FERC implemented the Congressional mandate of the Energy Policy Act of 2005 (EPAct 2005) to establish criteria for new qualifying cogeneration facilities by: (1) amending the exemptions available to qualifying facilities from the FPA and from Public Utility Holding Company Act [resulting in the burden imposed by FERC-914, the subject of this notice]; (2) ensuring that these facilities are using their thermal output in a productive and beneficial manner; that the electrical, thermal, chemical and mechanical output of new qualifying cogeneration facilities is used fundamentally for commercial, residential or industrial purposes; and there is continuing progress in the development of efficient electric energy generating technology; (3) amending the FERC Form 556 ⁴ to reflect the criteria for new qualifying cogeneration facilities; and (4) eliminating ownership limitations for qualifying cogeneration and small power production facilities. The Commission satisfied the statutory mandate and its continuing obligation to review its policies encouraging cogeneration and small power production, energy conservation, efficient use of facilities and resources by electric utilities, and equitable rates for energy customers.

⁴ The FERC Form 556 (Certification of Qualifying Facility (QF) Status for a Small Power Production or Cogeneration Facility) is cleared separately as OMB Control No. 1902-0075 and is not a subject of this notice.

Type of Respondents: Natural gas companies, Oil pipelines, New qualifying facilities and small power producers that do not meet Commission exemption criteria.

Estimate of Annual Burden: ⁵ The Commission estimates the annual public reporting burden for each of the information collections are:

⁵ The Commission defines burden as the total time, effort, or financial resources expended by persons to generate, maintain, retain, or disclose or provide information to or for a Federal agency. For further explanation of what is included in the information collection burden, reference 5 Code of Federal Regulations 1320.3.

⁶ FERC staff estimates that industry costs for salary plus benefits are similar to Commission costs. The cost figure is the FY2025 FERC average annual salary plus benefits ($214,093year or $103/hour).

⁷ This figure is rounded.

FERC-547—Gas Pipeline Rates: Refund Report Requirements
Number of respondents | Number of responses per respondent | Total number of responses | Average burden hours & average cost ⁶ per response ($) | Total annual burden hours & total annual cost ($) | Cost per respondent ($)
(1) | (2) | (1) × (2) = (3) | (4) | (3) × (4) = (5) | (5) ÷ (1) = (6)
23 | 2 | 46 | 2 hrs.; 206 | 92 hrs.; 9,476 | 412

FERC-550—Oil Pipeline Rates—Tariff Filings and Depreciation Studies
| Number of respondents | Annual number of responses per respondent | Total number of responses⁷ | Average burden hrs. & cost ($) per response | Total annual burden hours & total annual cost ($) | Cost per respondent ($)
| (1) | (2) | (1) * (2) = (3) | (4) | (3) * (4) = (5) | (5) ÷ (1)
Oil Rates and Tariff Filings | 261 | 3 | 783 | 7 hrs.; 721 | 5,481 hrs.; 564,543 | 2,163
Depreciation Studies | 15 | 1 | 15 | 40 hrs.; 4,120 | 600 hrs.; 61,800 | 4,120
Total | 276 |  | 798 |  | 6,081 hrs.; 626,343 |

FERC-914—Cogeneration and Small Power Production—Tariff Filings
| Number of respondents | Annual number of responses per respondent | Total number of responses | Average burden hours & cost ($) per response | Total annual burden hours & total annual cost ($) | Cost per respondent ($)
| (1) | (2) | (1) * (2) = (3) | (4) | (3) * (4) = (5) | (5) ÷ (1)
FPA Section 205 Filings | 40 | 1 | 40 | 185 hrs.; 19,055 | 7,400hrs.; 762,200 | 19,055
Electric Quarterly Reports | 35 | 4 | 140 | 6 hrs.; 618 | 840 hrs.; 86,520 | 2,472
Change of Status | 10 | 1 | 10 | 3 hrs.; 309 | 30 hrs.; 3,090 | 309
Total |  | 190 |  | 8,270 hrs.; 851,810 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 20, 2026.
Debbie-Anne A. Reese,
Secretary.

[FR Doc. 2026-01347 Filed 1-23-26; 8:45 am]

BILLING CODE 6717-01-P